NUCLEAR REGULATORY COMMISSION

10 CFR Part 72

RIN 3150-AH50

List of Approved Fuel Storage Casks: NAC-MPC Revision, Confirmation of Effective Date

AGENCY: Nuclear Regulatory Commission.

ACTION: Direct final rule: Confirmation of effective date.

SUMMARY: The Nuclear Regulatory Commission (NRC) is confirming the effective date of October 27, 2004, for the direct final rule that was published in the Federal Register on August 13, 2004 (69 FR 50053). This direct final rule amended the NRC's regulations to revise the NAC-MPC cask system listing to include Amendment No. 4 to Certificate of Compliance (CoC) No. 1025.

EFFECTIVE DATE: The effective date of October 27, 2004, is confirmed for this direct final rule.

ADDRESSES: Documents related to this rulemaking, including comments received, may be examined at the NRC Public Document Room, located at One White Flint North, 11555 Rockville Pike, Rockville, MD 20852. These same documents may also be viewed and downloaded electronically via the rulemaking Web site (http://ruleforum.llnl.gov). For information about the interactive rulemaking Web site, contact Ms. Carol Gallagher (301) 415-5905; e-mail CAG@nrc.gov.

FOR FURTHER INFORMATION CONTACT: Jayne M. McCausland, Office of Nuclear Material Safety and Safeguards, U.S. Nuclear Regulatory Commission, Washington, DC 20555, telephone (301) 415-6219, e-mail jmm2@nrc.gov.

SUPPLEMENTARY INFORMATION: On August 13, 2004 (69 FR 50053), the NRC published a direct final rule amending its regulations in 10 CFR part 72 to revise the NAC-MPC cask system listing within the “List of Approved Spent Fuel Storage Casks” to include Amendment No. 4 to CoC No. 1025. This amendment increases vacuum drying time limits, deletes canister removal from concrete cask requirements, revises surface contamination removal time limits, and revises allowable contents fuel assembly limits. In the direct final rule, NRC stated that if no significant adverse comments were received, the direct final rule would become final on October 27, 2004. The NRC did not receive any comments that warranted withdrawal of the direct final rule. Therefore, this rule will become effective as scheduled.

Dated at Rockville, Maryland, this 14th day of October, 2004.
For the Nuclear Regulatory Commission.
Michael T. Lesar,
Chief, Rules and Directives Branch, Division of Administrative Services, Office of Administration.

[FR Doc. 04-23426 Filed 10-19-04; 8:45 am]

BILLING CODE 7590-01-P